DEPARTMENT OF ENERGY

Federal Energy Regulatory Commission

Combined Notice of Filings #1

Take notice that the Commission received the following electric corporate filings:

Docket Numbers: EC21-39-000.

Applicants: Brookfield Asset Management Inc.

Description: Application for Authorization Under Section 203 of the Federal Power Act of Brookfield Asset Management Inc., on behalf of its Public Utility Affiliates.

Filed Date: 1/5/21.

Accession Number: 20210105-5204.

Comments Due: 5 p.m. ET 1/26/21.

Take notice that the Commission received the following exempt wholesale generator filings:

Docket Numbers: EG21-62-000.

Applicants: KCE TX 23, LLC.

Description: Notice of Self-Certification of EWG Status of KCE TX 23, LLC.

Filed Date: 12/23/20.

Accession Number: 20201223-5428.

Comments Due: 5 p.m. ET 1/13/21.

Docket Numbers: EG21-63-000.

Applicants: Midway-Sunset Cogeneration Company.

Description: Notice of Self-Certification of Exempt Wholesale Generator Status of Midway-Sunset Cogeneration Company.

Filed Date: 12/30/20.

Accession Number: 20201230-5503.

Comments Due: 5 p.m. ET 1/21/21.

Docket Numbers: EG21-64-000.

Applicants: Lily Solar, LLC.

Description: Notice of Self-Certification of Exempt Wholesale Generator Status of Lily Solar, LLC.

Filed Date: 1/6/21.

Accession Number: 20210106-5141.

Comments Due: 5 p.m. ET 1/27/21.

Take notice that the Commission received the following electric rate filings:

Docket Numbers: ER15-1883-011; ER10-1852-050; ER10-1890-017; ER10-1951-032; ER10-1962-016; ER10-1989-017; ER11-2160-017; ER11-4462-053; ER11-4677-017; ER11-4678-017; ER12-2444-016; ER12-631-018; ER13-1991-016; ER13-1992-016; ER13-2112-012; ER15-1016-010; ER15-1375-010; ER15-1418-011; ER15-2243-008; ER15-2477-010; ER16-2443-007; ER16-632-009; ER16-90-010; ER16-91-011; ER17-2340-007; ER17-582-008; ER17-583-008; ER17-822-007; ER17-823-007; ER17-838-028; ER18-241-006; ER20-819-003; ER20-820-003.

Applicants: Adelanto Solar, LLC, Adelanto Solar II, LLC, Blythe Solar II, LLC, Blythe Solar III, LLC, Blythe Solar IV, LLC, Blythe Solar 110, LLC, Desert Sunlight 250, LLC, Desert Sunlight 300, LLC, Florida Power & Light Company, FPL Energy Green Power Wind, LLC, FPL Energy Montezuma Wind, LLC, Genesis Solar, LLC, Golden Hills Interconnection, LLC, Golden Hills North Wind, LLC, Golden Hills Wind, LLC, High Winds, LLC, Luz Solar Partners Ltd., III, Luz Solar Partners Ltd., IV, Luz Solar Partners Ltd., V, McCoy Solar, LLC, NextEra Blythe Solar Energy Center, LLC, NextEra Energy Montezuma II Wind, LLC, NextEra Energy Marketing, LLC, NEPM II, LLC, NextEra Energy Services Massachusetts, LLC, North Sky River Energy, LLC, Shafter Solar, LLC, Silver State Solar Power South, LLC, Sky River LLC, Vasco Winds, LLC, Westside Solar, LLC, Whitney Point Solar, LLC, Windpower Partners 1993, LLC.

Description: Notice of Change in Status of NextEra Resources Entities.

Filed Date: 1/5/21.

Accession Number: 20210105-5161.

Comments Due: 5 p.m. ET 1/26/21.

Docket Numbers: ER20-1839-001.

Applicants: VETCO.

Description: Compliance filing: Amended Order No. 864 Compliance to be effective 3/26/2020.

Filed Date: 1/7/21.

Accession Number: 20210107-5035.

Comments Due: 5 p.m. ET 1/28/21.

Docket Numbers: ER21-822-000.

Applicants: Midcontinent Independent System Operator, Inc.

Description: § 205(d) Rate Filing: 2021-01-07_SA 3201 Termination of Shiawassee Wind-METC GIA (J602) to be effective 5/6/2020.

Filed Date: 1/7/21.

Accession Number: 20210107-5009.

Comments Due: 5 p.m. ET 1/28/21.

Docket Numbers: ER21-823-000.

Applicants: Midcontinent Independent System Operator, Inc.

Description: § 205(d) Rate Filing: 2021-01-07_SA 3378 Termination of NIPSCO-Poplar Wind Project GIA (J883) to be effective 3/4/2021.

Filed Date: 1/7/21.

Accession Number: 20210107-5011.

Comments Due: 5 p.m. ET 1/28/21.

Docket Numbers: ER21-824-000.

Applicants: Southern California Edison Company.

Description: § 205(d) Rate Filing: Amended Letter Agreement IP Oberon LLC SA No. 248 to be effective 1/8/2021.

Filed Date: 1/7/21.

Accession Number: 20210107-5016.

Comments Due: 5 p.m. ET 1/28/21.

Docket Numbers: ER21-825-000.

Applicants: Otter Tail Power Company.

Description: § 205(d) Rate Filing: Filing of Revised Certificate of Concurrence—NSP TCRA to be effective 2/16/2021.

Filed Date: 1/7/21.

Accession Number: 20210107-5025.

Comments Due: 5 p.m. ET 1/28/21.

Docket Numbers: ER21-826-000.

Applicants: Peetz Logan Interconnect, LLC.

Description: Notice of cancellation of Transmission Service Agreements of Peetz Logan Interconnect, LLC.

Filed Date: 1/5/21.

Accession Number: 20210105-5206.

Comments Due: 5 p.m. ET 1/26/21.

Docket Numbers: ER21-827-000.

Applicants: Versant Power.

Description: § 205(d) Rate Filing: Original Service Agreement under Schedule 20A-VP the ISO-NE Tariff to be effective 11/1/2020.

Filed Date: 1/7/21.

Accession Number: 20210107-5026.

Comments Due: 5 p.m. ET 1/28/21.

Docket Numbers: ER21-828-000.

Applicants: Midcontinent Independent System Operator, Inc.

Description: § 205(d) Rate Filing: 2021-01-07_SA 2687 METC-New Covert 1st Rev FCA (T94) to be effective 1/4/2021.

Filed Date: 1/7/21.

Accession Number: 20210107-5042.

Comments Due: 5 p.m. ET 1/28/21.

Docket Numbers: ER21-829-000.

Applicants: Weaver Wind, LLC.

Description: § 205(d) Rate Filing: Notice of Non-Material Change in Status and Revised MBR Tariff to be effective 1/8/2021.

Filed Date: 1/7/21.

Accession Number: 20210107-5045.

Comments Due: 5 p.m. ET 1/28/21.

Take notice that the Commission received the following public utility holding company filings:

Docket Numbers: PH21-5-000.

Applicants: New Jersey Resources Corporation.

Description: New Jersey Resources Corporation submits FERC-65-A Notice of Material Change in Facts and Exemption Notification.

Filed Date: 1/6/21.

Accession Number: 20210106-5181.

Comments Due: 5 p.m. ET 1/27/21.

Take notice that the Commission received the following electric reliability filings:

Docket Numbers: RD21-2-000.

Applicants: North American Electric Reliability Corporation.

Description: Petition of The North American Electric Reliability Corporation For Approval of Proposed Reliability Standards CIP-013-2, CIP-005-7, and CIP-010-4 Addressing Supply Chain Cybersecurity Risk Management.

Filed Date: 12/14/20.

Accession Number: 20201214-5246.

Comments Due: 5 p.m. ET 1/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2021.
Nathaniel J. Davis, Sr.,
Deputy Secretary.

[FR Doc. 2021-00511 Filed 1-12-21; 8:45 am]

BILLING CODE 6717-01-P